DEPARTMENT OF THE INTERIOR

National Park Service

Notice of Availability of Draft Director's Order Concerning National Park Service Policies and Procedures Governing Civic Engagement and Public Involvement

AGENCY: National Park Service, Interior.

ACTION: Availability of draft Director's Order.

SUMMARY: The NPS is inviting comment for a 30-day period on draft Director's Order #75A: Civic Engagement and Public Involvement. The document emphasizes the National Park Service (NPS) policy of welcoming the public to use the parks in appropriate, sustainable ways, and engaging the public in the work of the bureau with effective public involvement techniques. When adopted, the policies and procedures will apply to all park units and programs administered by the NPS.

DATES: Written comments will be accepted until August 22, 2003.

ADDRESSES: Submit comments to Marcia Keener, United States Department of Interior, National Park Service Office of Policy (Org. Code 0004), Room 7252, 1849 C Street, NW., Washington, DC 20240. Or, telefax to 202-219-8835; or send via electronic mail to waso_opr@nps.gov.

SUPPLEMENTARY INFORMATION: The NPS has long provided opportunities for public involvement through its planning, historic preservation, and environmental compliance procedures. Additional requirements and expectations for outreach and consultation are presently included in the 2001 edition of “Management Policies,” and in a number of active Director's Orders. A distinct benefit of this draft Director's Order #75A is that civic engagement and public involvement expectations and guidance are now packaged into a single document. More detailed information on methods and techniques will follow in the form of a Sourcebook, which is now being developed. The draft Director's Order covers topics such as the importance of two-way communication and the need for creative public involvement efforts by NPS personnel so that the public will have a fuller voice in the work of the NPS. The draft Director's Order may be viewed on the Internet at http://www.nps.gov/policy/DOrders/75A.htm. Written copies may also be requested by contacting Marcia Keener at the address given above.

Civic Engagement and Public Involvement comports with the Secretary of the Interior's “Four Cs” principle of Consultation, Cooperation, and Communication, all in the service of Conservation. Another influence is a recent document that is currently being discussed and implemented within the NPS, the National Park System Advisory Board's report: “Rethinking the National parks for the 21st Century.” The report can be found on the Internet at http://www.nps.gov/policy/futurereport.htm. The report has much to say about increasing the level of public participation and involvement with the National Park System. In part, the report states that:

Too often the Park Service has been hesitant to engage outside talent, preferring to look inward for ideas and solutions to problems. This must change. Park staff can no longer be insular, but must work closely with private landowners, local community groups, local governments, and other federal agencies. Cooperation with neighbors is vital to conserve park resources. At a time of public cynicism about many matters on the national scene, opinion surveys indicate that the Park Service enjoys one of the highest public approval ratings of all government agencies. From the beginning the Park Service has sought to be people-friendly. The public looks upon national parks almost as a metaphor for America itself. To encourage ecological stewardship outside the parks, the Service should cooperate extensively with its neighbors-federal agencies, states, counties, cities, tribes, the private sector, even other countries.

Individual respondents may request that we withhold their name and/or address from the record, which we will honor to the extent allowable by law. If you wish us to withhold your name and/or address, you must state this prominently at the beginning of your comment.

FOR FURTHER INFORMATION CONTACT: Marcia Keener, Program Analyst, 202-208-7456.

Dated: July 17, 2003.
Loran Fraser,
Chief, Office of Policy and Regulations.

[FR Doc. 03-18695 Filed 7-22-03; 8:45 am]

BILLING CODE 4312-52-P